DEPARTMENT OF ENERGY

Federal Energy Regulatory Commission

Combined Notice of Filings

Take notice that the commission received the following accounting Request filings:

Filings Instituting Proceedings

Docket Numbers: AC26-11-000.

Applicants: Stingray Pipeline Company, L.L.C.

Description: Stingray Pipeline Company, L.L.C. submits accounting entries related to the abandonment by sale to Triton Gathering LLC certain onshore/offshore facilities and Mainline Facilities Abandonments.

Filed Date: 12/8/25.

Accession Number: 20251208-5230.

Comment Date: 5 p.m. ET 12/29/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 9, 2025.
Carlos D. Clay,
Deputy Secretary.

[FR Doc. 2025-22645 Filed 12-11-25; 8:45 am]

BILLING CODE 6717-01-P